DEPARTMENT OF HEALTH AND HUMAN SERVICES (HHS)

Office of the Secretary

Delegation of Authority

Notice is hereby given that I have delegated to HHS' Operating and Staff Division heads and the Chair(s) of the HHS Innovation Council, or their successors, the authorities vested in the Secretary under Section 105 of the America COMPETES Reauthorization Act of 2010 (Pub. L. 111-358) (which added Section 24 of the Stevenson-Wydler Technology Innovation Act of 1980, 15 U.S.C. 3701 et seq), as amended, to administer and fund prize competitions aimed at stimulating innovation. This delegation excludes the authority under Section 24(k)(3) to develop guidelines for the appointment of judges, which I hereby delegate to the Chair(s), HHS Innovation Council. Additionally, I reserve the authorities under Section 24(m)(3)(B) to approve an increase in the amount of a prize after initial announcement has been made and to approve the award of more than $500,000 in cash prizes.

These authorities may be redelegated. The authorities granted herein shall be exercised in accordance with the Department's applicable policies, procedures, and guidelines. I hereby affirm and ratify any actions taken by you or your subordinates, which involve the exercise of this authority prior to the effective date of this delegation. This delegation is effective upon date of signature.

Authority: 44 U.S.C. 3101.

Dated: April 22, 2011.
Kathleen Sebelius,
Secretary.

[FR Doc. 2011-10847 Filed 5-3-11; 8:45 am]

BILLING CODE 4150-04-P